DEPARTMENT OF ENERGY

Federal Energy Regulatory Commission

[Project No. 1888-030]

York Haven Power Company, LLC; Notice of Meeting

On Wednesday, January 9, 2013, Commission staff will meet with York Haven Power Company, LLC (applicant) in Washington, DC. The purpose of the meeting is to discuss the required supporting design report, as well as potential studies, dam safety issues, and requirements related to the applicant's proposed nature-like fishway for the York Haven Hydroelectric Project No. 1888. The meeting will begin at 10 a.m. at the Federal Energy Regulatory Commission headquarters building located at 888 First Street NE., Washington, DC. For further information please contact Emily Carter at 202-502-6512.

Dated: December 20, 2012.
Kimberly D. Bose,
Secretary.

[FR Doc. 2012-31263 Filed 12-28-12; 8:45 am]

BILLING CODE 6717-01-P